DEPARTMENT OF ENERGY

Federal Energy Regulatory Commission

[Docket No. AD21-8-000]

Technical Conference on Reassessment of the Electric Quarterly Report Requirements; Supplemental Notice of Technical Conference

On August 12, 2021, the Federal Energy Regulatory Commission (Commission) issued a notice that its staff will hold a technical conference related to the reassessment of the Electric Quarterly Report (EQR) requirements on October 14, 2021. The technical conference will take place from 10:00 a.m. to 12:30 p.m. Eastern Time. All interested persons are invited to participate. Access to the meeting will be available via WebEx.

Commission staff is hereby supplementing the August 12, 2021 notice with the agenda, including sample discussion topics. During the conference, Commission staff, EQR filers, and EQR users will discuss potential changes to the current EQR data fields. This technical conference is the third in a series of conferences related to the reassessment of the EQR requirements.

Information for the technical conference, including a link to the webcast, will be posted prior to the event on the meeting event page on the Commission's website, available at: https://www.ferc.gov/news-events/events/technical-conference-reassessment-electric-quarterly-report-requirements-0. The presentation slides will be posted to the website prior to the conference. Any interested person that wishes to participate in the conference is required to register through the WebEx link.

Commission conferences are accessible under section 508 of the Rehabilitation Act of 1973. For accessibility accommodations, please send an email to accessibility@ferc.gov or call toll free 1-866-208-3372 (voice) or 202-208-1659 (TTY).

For more information about the technical conference, please contact Jeff Sanders of the Commission's Office of Enforcement at (202) 502-6455, or send an email to EQR@ferc.gov.

Dated: September 14, 2021.
Kimberly D. Bose,
Secretary.

[FR Doc. 2021-20270 Filed 9-17-21; 8:45 am]

BILLING CODE 6717-01-P